DEPARTMENT OF HOMELAND SECURITY

Coast Guard

[Docket No. USCG-2024-0432]

National Merchant Marine Personnel Advisory Committee; September 2024 Meetings

AGENCY: Coast Guard, Department of Homeland Security.

ACTION: Notice of open Federal advisory committee meetings.

SUMMARY: The National Merchant Marine Personnel Advisory Committee (Committee) will meet in-person over two days in Washington, DC to discuss issues relating to personnel in the United States Merchant Marine including the training, qualifications, certification, documentation, and fitness of mariners. Several of the Committee's subcommittees will also be meeting. For more detailed information regarding subcommittees see Day 1, sections (5) and (7) below.

DATES:

Meetings: The National Merchant Marine Personnel Advisory Committee is scheduled to meet on Wednesday, September 4, 2024, from 9 a.m. until 4:30 p.m. Eastern Daylight Time Zone (EDT) and Thursday, September 5, 2024, from 9 a.m. until 4:30 p.m. (EDT). The Committee meeting on Wednesday, September 4, 2024, will include periods during which the Committee will break into subcommittees beginning at 10 a.m., to discuss the task statements listed in Day 1, sections (5) and (7) in the Supplementary Information. These meetings may adjourn early if the Committee and subcommittees have completed their business.

Comments and supporting documentation: To ensure your comments are received by Committee and subcommittee members before the meetings, submit your written comments no later than August 26, 2024.

ADDRESSES: These meetings will be held at the Department of Homeland Security campus, 2703 Martin Luther King Jr Ave SE, Stop 7509, Washington, DC 20593-7509.

Pre-registration Information: Pre-registration is mandatory for these meetings and is limited to the first 30 confirmed attendees. Additional information will be required to register for access to the Department of Homeland Security campus. You must provide your legal name and a phone number to the individual noted in the FOR FURTHER INFORMATION CONTACT section, as well as identifying which subcommittee meeting you plan to attend.

The National Merchant Marine Personnel Advisory Committee is committed to ensuring all participants have equal access regardless of disability status. If you require reasonable accommodation due to a disability to fully participate, please email Mrs. Megan Johns Henry at megan.c.johns@uscg.mil or call at (202) 372-1255 as soon as possible.

Instructions: You are free to submit comments at any time, including orally at these meetings as time permits, but if you want Committee or subcommittee members to review your comment before the meetings, please submit them no later than August 26, 2024. We are particularly interested in comments on the issues in the “Agenda” section below. We encourage you to submit comments through the Federal Decision Making Portal at https://www.regulations.gov. To do so, go to https://www.regualtions.gov, type USCG-2024-0432 in the search box and click “Search”. Next, look for this document in the Search Results column, and click on it. Then click on the Comment option. If your material cannot be submitted using https://www.regulations.gov, email the individual in the FOR FURTHER INFORMATION CONTACT section of this document for alternate instructions. You must include the docket number USCG-2024-0432. Comments received will be posted without alteration at http://www.regulations.gov, including any personal information provided. You may wish to review the Privacy and Security Notice, found via link on the homepage https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of these meetings is in compliance with the Federal Advisory Committee Act (Pub. L. 117-286, 5 U.S.C. ch. 10). The Committee is authorized by section 601 of the Frank LoBiondo Act of 2018 and is codified in 46 U.S.C. 15103. The Committee operates under the provisions of the Federal Advisory Committee Act and 46 U.S.C. 15109. The Committee provides advice and recommendations to the Secretary of Homeland Security through the Commandant of the Coast Guard on matters relating to personnel in the United States Merchant Marine including the training, qualifications, certification, documentation, and fitness of mariners.

Agenda: The National Merchant Marine Personnel Advisory Committee will meet on Wednesday, September 4, 2024, and Thursday, September 5, 2024 to review, discuss, deliberate, and formulate recommendations, as appropriate on the following topics.

Day 1

The agenda for the September 4, 2024 meeting is from 9 a.m. until 4:30 p.m. (EDT) as follows:

(1) The full Committee will meet briefly to discuss the subcommittees' business and task statements for all open tasks, which are listed under paragraph (12) under Day 2 below.

(2) Call to order by Committee Chair.

(3) Adjourn to work on subcommittee task statements.

(4) During the morning session of the meeting, several subcommittees will meet simultaneously in separate rooms to address and work on their assigned task statement beginning at 10 a.m. (EDT). Each subcommittee will follow the same agenda:

(a) Call to order by subcommittee chair.

(b) Work on task statements.

(c) Public comments will be accepted throughout the meeting.

(d) Adjourn at completion of work at 12 p.m. (EDT), or earlier if the work has been completed.

(5) The task statements for the morning session are available for viewing at https://homeport.uscg.mil/missions/federal-advisory-committees/national-merchant-marine-personnel-advisory-committee-(nmerpac)/task-statements:

(a) Task Statement 24-2, Review of Maritime Administration's Maritime Workforce Group Report on the Maritime Workforce;

(b) Task Statement 21-5, Review of Merchant Mariner Rating and Officer Endorsement Job Task Analyses; and

(c) Task Statement 24-1, Training and Experience Guidelines for Seafarers Employed Aboard Ships Using Alternative Fuels.

(6) During the afternoon session of the meeting, several subcommittees will meet simultaneously in separate rooms to address and work on their assigned task statement beginning at 1 p.m. (EDT). Each subcommittee will follow the same agenda:

(a) Call to order by subcommittee chair.

(b) Work on task statements.

(c) Public comments will be accepted throughout the meeting.

(d) Adjourn at completion of work at 4:30 p.m. (EDT), or earlier if the work has been completed.

(7) The task statements for the afternoon session are available for viewing at https://homeport.uscg.mil/missions/federal-advisory-committees/national-merchant-marine-personnel-advisory-committee-(nmerpac)/task-statements:

(a) Task Statement 21-2, Communication Between External Stakeholders and Mariner Credentialing Program including amendment Task Statement 21-2A, Reviewing Assessments in NVICs for STCW;

(b) Task Statement 21-5, Review of Merchant Mariner Rating and Officer Endorsement Job Task Analyses; and

(c) Task Statement 24-1, Training and Experience Guidelines for Seafarers Employed Aboard Ships Using Alternative Fuels.

Day 2

The agenda for the September 5, 2024 meeting is, from 9 a.m. until 4:30 p.m. (EDT) as follows:

(1) Introduction.

(2) Designated Federal Officer and Coast Guard Leadership remarks.

(3) Roll call of Committee members and determination of a quorum.

(4) Swearing-in of new members.

(5) Adoption of the agenda.

(6) Acceptance of Minutes from Committee Meeting 6 (December 12, 2023).

(7) Acceptance of Minutes from Committee Meeting 7 (March 27, 2024).

(8) Introduction of new task.

(9) National Maritime Center update presentation.

(10) Public comment period.

(11) Office of Merchant Mariner Credentialing update presentation.

(12) Reports from the subcommittee Chair or Co-Chairs.

The Committee will review the information presented on the following Task Statements, allow for public comment following the presentations, and deliberate on any recommendations presented by the Subcommittees. Recommendations may be approved and completed tasks may be closed. Official action on the following topics may be taken:

(a) Task Statement 21-1, Review of IMO Model Courses Being Validated by the IMO HTW Subcommittee;

(b) Task Statement 21-2, Communication Between External Stakeholders and the Mariner Credentialing Program, including amendment Task Statement 21-2A, Reviewing Assessments in NVICs for STCW;

(c) Task Statement 21-3, Military Education, Training, and Assessment for STCW and National Mariner Endorsements;

(d) Task Statement 21-4, STCW Convention and STCW Code Review;

(e) Task Statement 21-5, Review of Merchant Mariner Rating and Officer Endorsement Job Task Analyses;

(f) Task Statement 21-6, Sea Service for Merchant Mariner Credential Endorsements;

(g) Task Statement 21-9, Sexual Harassment and Sexual Assault-Prevention and Culture Change in the Merchant Marine;

(h) Task Statement 22-2, Alternative Methods for Meeting STCW Training Requirements at the Operational Level;

(i) Task Statement 22-3, Mariner Credentialing Program (MCP) Transformation;

(j) Task Statement 24-1, Training and Experience Guidelines for Seafarers Employed Aboard Ships Using Alternative Fuels; and

(k) Task Statement 24-2, Review of the Maritime Administration's Report on Maritime Workforce.

(13) Closing remarks.

(14) Adjournment of meeting.

A copy of all meeting documentation will be available at https://homeport.uscg.mil/missions/federal-advisory-committees/national-merchant-marine-personnel-advisory-committee-(nmerpac) by August 26, 2024. Alternatively, you may contact the individual noted in the FOR FURTHER INFORMATION CONTACT section above.

Public comments or questions will be taken throughout the meetings as the Committee and subcommittees discuss the issues, and prior to deliberations and voting. Public comments will be limited to 3 minutes per speaker and limited to one comment per person. Please note that the public comments period will end following the last call for comments. Please contact the individual listed in the FOR FURTHER INFORMATION CONTACT section to register as a speaker.

Dated: August 13, 2024.
Jeffrey G. Lantz,
Director of Commercial Regulations and Standards.

[FR Doc. 2024-18455 Filed 8-16-24; 8:45 am]

BILLING CODE 9110-04-P